Memorandum of January 10, 2012

Certification Concerning U.S. Participation in the United Nations Mission in South Sudan Consistent With Section 2005 of the American Servicemembers' Protection Act

Memorandum for the Secretary of State

By the authority vested in me as President by the Constitution and the laws of the United States of America, and consistent with section 2005 of the American Servicemembers' Protection Act of 2002 (Public Law 107-206; 22 U.S.C. 7421 et seq.), concerning the participation of members of the Armed Forces of the United States in certain United Nations peacekeeping and peace enforcement operations, I hereby certify that members of the U.S. Armed Forces participating in the United Nations Mission in South Sudan are without risk of criminal prosecution or other assertion of jurisdiction by the International Criminal Court (ICC) because the Republic of South Sudan is not a party to the ICC and has not invoked the jurisdiction of the ICC pursuant to Article 12 of the Rome Statute.

You are authorized and directed to publish this determination in the Federal Register.

THE WHITE HOUSE,

Washington, January 10, 2012

[FR Doc. 2012-1546

Filed 1-23-12; 8:45 am]

Billing code 4710-10-P